DEPARTMENT OF LABOR

Employment and Training Administration

[TA-W-39,959]

Teccor Electronics, a Division of Invensys, Irving, Texas; Notice of Negative Determination Regarding Application for Reconsideration

By application of January 23, 2002, petitioners requested administrative reconsideration of the Department's negative determination regarding eligibility for workers and former workers of the subject firm to apply for Trade Adjustment Assistance (TAA). The denial notice applicable to workers of Teccor Electronics, A Division of Invensys, Irving, Texas was issued on December 11, 2001, and was published in the Federal Register on December 26, 2001 (66 FR 66426).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (3) of the group eligibility requirements of section 222 of the Trade Act of 1974 was not met. The decision was based on imports not contributing importantly to the decline in employment at the subject plant. The investigation further revealed that the production of wafers at the subject firm was transferred to a foreign plant.

The request for reconsideration alleges that the final testing and categorizing (referred to as back-end production) of the thyristor semiconductor was moved to that foreign source. The petitioners further allege that the equipment to test and categorize the thyristor semiconductors was also shifted to a foreign source.

Since the workers are engaged solely in the final testing and categorizing of imported thyristor semiconductors, they are not considered engaged in the production of an article. Testing and categorizing of thyristor semiconductors are post-production activities and are thus outside of the scope of workers engaged in the production of thyristor semiconductors produced at an affiliated foreign source. Therefore, the shift in testing and categorizing functions to a foreign source does not satisfy criterion (3) requirements.

Additionally, upon reconsideration the subject workers do not produce an article within the meaning of section 222(3) of the Act.

Conclusion

After review of the application and investigative findings, I conclude that there has been no error or misinterpretation of the law or of the facts which would justify reconsideration of the Department of Labor's prior decision. Accordingly, the application is denied.

Signed at Washington, DC, this 10th day of April 2002.
Edward A. Tomchick,
Director, Division of Trade Adjustment Assistance.

[FR Doc. 02-10898 Filed 5-1-02; 8:45 am]

BILLING CODE 4510-30-M